Proclamation 10491 of October 31, 2022

National Veterans and Military Families Month, 2022

By the President of the United States of America

A Proclamation

This month, our Nation honors the strength and sacrifices of the families, caregivers, and survivors of our veterans and our current service members. They may not wear uniforms, but their service is essential to our national security and the character of our Nation. We owe them a debt of gratitude that we can never fully repay.

Constant tours, deployments, and rotations are difficult for our military families. Jill and I have personally experienced the anxious pride that parents feel seeing their child in uniform. We have marveled at the devotion of military families and their resilience to uproot their lives every few years and move to new communities. We honor the stalwart courage and resolve of veteran families caring for their loved ones when their service in uniform concludes. We grieve alongside families of the fallen who have lost a piece of their soul. That is why I take so seriously the sacred obligation to prepare and equip our service members when we send them into harm's way and to care for them and their families when they return home.

Since coming to office, I have signed into law important expansions of services and benefits to support our veterans and their families, improved VA health care and benefits for veterans exposed to burn pits and other toxic substances through the PACT Act, and made historic reforms to the military justice system that will enhance safety and protections for service members and their families impacted by sexual assault and domestic violence. The First Lady's Joining Forces initiative is helping military spouses find jobs, connecting military children with better education, and helping to ensure that military and veteran families, caregivers, and survivors have what they need to thrive. My Administration has also released a comprehensive public health strategy to reduce military and veteran suicides, which will guide our efforts to stand with families and protect the lives of our Nation's heroes.

To be a veteran or a service member is to have endured and survived challenges most Americans will never know. To be the family of one of those proud patriots is to sacrifice more for our country than most Americans will ever give. During National Veterans and Military Families Month, we pay homage to the unrelenting bravery and dedication of all who wear the uniform and to the unwavering love and support of all who serve alongside them. Families who put their lives on hold so our military can hold the line represent the best of America, and we will always remember what they do for our Nation.

NOW, THEREFORE, I, JOSEPH R. BIDEN JR., President of the United States of America, by virtue of the authority vested in me by the Constitution and the laws of the United States, do hereby proclaim November 2022 as National Veterans and Military Families Month. I call upon the people of the United States to honor veterans and military families with appropriate ceremonies and activities.

IN WITNESS WHEREOF, I have hereunto set my hand this thirty-first day of October, in the year of our Lord two thousand twenty-two, and of the Independence of the United States of America the two hundred and forty-seventh.

[FR Doc. 2022-24171

Filed 11-2-22; 11:15 am]

Billing code 3395-F3-P